DEPARTMENT OF THE INTERIOR

Bureau of Land Management

[LLNVS00000.L182000000.XZ0000.241E0; MO# 4500071965]

Notice of Change of Hours of Operation for the Southern Nevada District Office

AGENCY: Bureau of Land Management, Interior.

ACTION: Notice.

SUMMARY: The Public Room at the Bureau of Land Management (BLM) Southern Nevada District Office will implement new hours of operation, weekdays, excluding Federal holidays, 8:00 a.m. to 4:30 p.m.

DATES: The new hours of operation will be effective October 28, 2014.

ADDRESSES: The BLM Southern Nevada District Office is located at 4701 N. Torrey Pines Dr., Las Vegas, NV 89130.

FOR FURTHER INFORMATION CONTACT: Ian Glander, Southern Nevada District Office, 4701 N. Torrey Pines Dr., Las Vegas, NV 89130, telephone: 702-515-5103, email: ianglander@blm.gov. Persons who use a telecommunications device for the deaf (TDD) may call the Federal Information Relay Service (FIRS) at 1-800-877-8339 to contact the above individual during normal business hours. The FIRS is available 24 hours a day, 7 days a week, to leave a message or question with the above individual. You will receive a reply during normal hours.

SUPPLEMENTARY INFORMATION: The BLM Southern Nevada District Office has assessed the amount of public visitation to the Public Room from 7:30 a.m. to 8 a.m., and has determined that this change of Public Room hours of operation to 8:00 a.m. to 4:30 p.m. would have little to no impact to the public.

Timothy Z. Smith,
District Manager, Southern Nevada District Office.

[FR Doc. 2014-25468 Filed 10-27-14; 8:45 am]

BILLING CODE 4310-HC-P